SMALL BUSINESS ADMINISTRATION

Revocation of License of Small Business Investment Company

Pursuant to the authority granted to the United States Small Business Administration by the Final Order of the United States District Court of Maryland, Baltimore Division, dated June 17, 2008, the United States Small Business Administration hereby revokes the license of Anthem Capital, L.P., a Delaware limited partnership, to function as a small business investment company under the Small Business Investment Company License No. 0373-0200 issued to Anthem Capital, L.P. on September 26, 1994 and said license is hereby declared null and void as of June 31, 2008.

United States Small Business Administration.
Dated: September 8, 2008.
A. Joseph Shepard,
Associate Administrator for Investment.

[FR Doc. E8-21715 Filed 9-16-08; 8:45 am]

BILLING CODE 8025-01-P